ENVIRONMENTAL PROTECTION AGENCY

40 CFR Part 52

[EPA-R10-OAR-2016-0290; FRL-9946-95-Region 10]

Approval and Promulgation of Implementation Plans; Washington: Spokane Second 10-Year Carbon Monoxide Limited Maintenance Plan

AGENCY: Environmental Protection Agency (EPA).

ACTION: Proposed rule.

SUMMARY: The Environmental Protection Agency (EPA) is proposing to approve the limited maintenance plan submitted on May 11, 2016, by the Washington Department of Ecology (Ecology), in cooperation with the Spokane Regional Clean Air Agency (SRCAA) for the Spokane carbon monoxide (CO) maintenance area (Spokane area or area). The Spokane area includes the cities of Spokane, Spokane Valley, Millwood, and surrounding urban areas in Spokane County, Washington. This plan addresses the second 10-year maintenance period for the National Ambient Air Quality Standards (NAAQS) promulgated for CO, as revised in 1985. The Spokane area has had no exceedances of the CO NAAQS since 1997 and monitored CO levels in the area continue to decline steadily. The EPA is also proposing approval of an alternative CO monitoring strategy for the Spokane area which was submitted as part of the limited maintenance plan.

DATES: Comments must be received on or before June 27, 2016.

ADDRESSES: Submit your comments, identified by Docket ID No. EPA-R10-OAR-2016-0290 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

Docket: All documents in the electronic docket are listed in the http://www.regulations.gov index. Although listed in the index, some information is not publicly available, i.e., CBI or other information that is restricted by statute from disclosure. Certain other material, such as copyrighted material, is not placed on the Internet and will be publicly available only in hard copy form. Publicly available docket materials are available at http://www.regulations.gov or at EPA Region 10, Office of Air, Waste and Toxics, 1200 Sixth Avenue, Seattle, Washington 98101. The EPA requests that you contact the person listed in the FOR FURTHER INFORMATION CONTACT section to schedule your inspection. The Regional Office's official hours of business are Monday through Friday, 8:30 to 4:30, excluding Federal holidays.

FOR FURTHER INFORMATION CONTACT: Jeff Hunt at (206) 553-0256, hunt.jeff@epa.gov.

SUPPLEMENTARY INFORMATION: Throughout this document wherever “we”, “us” or “our” is used, it is intended to refer to the EPA.

Table of Contents

I. This Action

II. Background

III. The Limited Maintenance Plan Option for CO Areas

A. Requirements for the Limited Maintenance Plan Option

B. Conformity Under the Limited Maintenance Plan Option

IV. Review of the State's Submittal

A. Has the State demonstrated that the monitoring data meets the LMP Option criteria?

B. Does the State have an approved attainment emissions inventory?

C. What are the control measures for this area?

D. Does the limited maintenance plan include an assurance of continued operation of an appropriate EPA-approved air quality monitoring network, in accordance with 40 CFR part 58?

E. Does the plan meet the clean air act requirements for contingency provisions?

V. Proposed Action

VI. Incorporation by Reference

VII. Statutory and Executive Order Reviews

I. This Action

The EPA is proposing to approve the limited maintenance plan for CO submitted by the State of Washington (Washington or the State), on May 11, 2016, for the Spokane area. A limited maintenance plan is a means of meeting Clean Air Act (CAA) requirements for formerly designated nonattainment areas that meet certain qualification criteria. The EPA is proposing to determine that Washington's submittal meets the limited maintenance plan criteria as described below.

II. Background

Under section 107(d)(1)(c) of the CAA, the Spokane area was designated nonattainment by operation of law upon enactment of the 1990 Amendments (56 FR 56694, November 6, 1991). On June 29, 2005, the EPA redesignated the area to attainment for the CO NAAQS and approved Washington's first maintenance plan designed to ensure compliance with the standard through the year 2015 (70 FR 37269). To meet section 175A(b) of the CAA, Washington submitted a second 10-year CO maintenance plan for the Spokane area that will apply until 2025.

III. The Limited Maintenance Plan Option for CO Areas

A. Requirements for the Limited Maintenance Plan Option

The EPA's requirements for a limited maintenance plan (LMP) are outlined in an October 6, 1995 memorandum from Joseph Paisie titled, ”Limited Maintenance Plan Option for Nonclassifiable CO Nonattainment Areas” (CO LMP Option). To qualify for the LMP Option, the design value for an area, based on the eight consecutive quarters (two years of data) used to demonstrate attainment, must be at or below 7.65 parts per million (ppm). The CO LMP Option memo states the “EPA believes that the continued applicability of Prevention of Significant Deterioration (PSD) requirements, any control measures already in the SIP, and Federal measures (such as the Federal motor vehicle control program) should provide adequate assurance of maintenance for these areas.” The EPA has determined that the CO LMP Option is also available to all states for second 10-year maintenance plans, regardless of the original nonattainment classification.

B. Conformity Under the Limited Maintenance Plan Option

The transportation conformity rule and the general conformity rule (40 CFR parts 51 and 93) apply to nonattainment areas and maintenance areas covered by an approved maintenance plan. Under either conformity rule, an acceptable method of demonstrating a Federal action conforms to the applicable SIP is to demonstrate that expected emissions from the planned action are consistent with the emissions budget for the area.

While qualification for the CO LMP Option does not exempt an area from the need to affirm conformity, conformity may be demonstrated without submitting an emissions budget. Under the limited maintenance plan option, emissions budgets are treated as essentially not constraining for the length of the maintenance period because it is unreasonable to expect that the qualifying areas would experience so much growth in that period that a violation of the CO NAAQS would result. For transportation conformity purposes, the EPA would conclude that emissions in these areas need not be capped for the maintenance period and therefore a regional emissions analysis would not be required. Similarly, Federal actions subject to the general conformity rule could be considered to satisfy the “budget test” specified in 40 CFR 93.158 (a)(5)(i)(A) for the same reasons that the budgets are essentially considered to be unlimited.

Under the limited maintenance plan option, emissions budgets are treated as essentially not constraining for the maintenance period because it is unreasonable to expect that qualifying areas would experience so much growth in that period that a NAAQS violation would result. While areas with maintenance plans approved under the limited maintenance plan option are not subject to the budget test, the areas remain subject to the other transportation conformity requirements of 40 CFR part 93, subpart A. Thus, the metropolitan planning organization (MPO) in the area or the State must document and ensure that:

(a) Transportation plans and projects provide for timely implementation of SIP transportation control measures (TCMs) in accordance with 40 CFR 93.113;

(b) transportation plans and projects comply with the fiscal constraint element as set forth in 40 CFR 93.108;

(c) the MPO's interagency consultation procedures meet the applicable requirements of 40 CFR 93.105;

(d) conformity of transportation plans is determined no less frequently than every four years, and conformity of plan amendments and transportation projects is demonstrated in accordance with the timing requirements specified in 40 CFR 93.104;

(e) the latest planning assumptions and emissions model are used as set forth in 40 CFR 93.110 and 40 CFR 93.111;

(f) projects do not cause or contribute to any new localized carbon monoxide or particulate matter violations, in accordance with procedures specified in 40 CFR 93.123; and

(g) project sponsors and/or operators provide written commitments as specified in 40 CFR 93.125.

In approving the 2nd 10-year limited maintenance plan, the Spokane maintenance area will continue to be exempt from performing a regional emissions analysis, but must meet project-level conformity analyses as well as the transportation conformity criteria mentioned above.

IV. Review of the State's Submittal

A. Has the State demonstrated that the monitoring data meets the LMP Option criteria?

The CO NAAQS is attained when the annual second highest 8-hour average CO concentration for an area does not exceed a concentration of 9.0 ppm. The last monitored violation of the CO NAAQS in the Spokane area occurred in 1996, and CO levels have steadily declined ever since.

For areas using the CO LMP Option, the maintenance plan demonstration requirement is considered to be satisfied when the second highest 8-hour CO concentration (design value) is at or below 7.65 ppm (85 percent of the CO NAAQS) for 8 consecutive quarters. The 8-hour CO design value for the Spokane area is 2.3 ppm based on 2013-2014 data, the most recent quality-assured and quality-controlled data available. Therefore, Washington has demonstrated that the monitoring data for the Spokane area meets the CO LMP Option criteria.

B. Does the State have an approved attainment emissions inventory?

The maintenance plan must contain an attainment year emissions inventory to identify a level of CO emissions that is sufficient to attain the CO NAAQS. The May 11, 2016 SIP submittal contains a CO emissions inventory for the Spokane area using a base year of 2011, matching the most recent data available in the EPA's National Emissions Inventory (NEI), which was then projected out to 2014 based on population growth. This inventory was then supplemented with more recent information for point sources and onroad motor vehicles. Onroad mobile emissions were calculated using the EPA's Motor Vehicle Emission Simulator (MOVES2014) model. Historically, exceedances of the CO NAAQS in the Spokane area have occurred during the winter months, when cooler temperatures contribute to incomplete combustion from motor vehicles. Therefore, consistent with the EPA's guidance, the emissions inventory is in a “typical winter day” format. Onroad mobile sources represent 69.4% of the typical winter day CO emissions, followed by 17.9% from area sources (primarily residential wood combustion), 12.3% from nonroad mobile sources, and 0.5% from point sources. With respect to calculating emissions inventories for the LMP, point sources were defined as any stationary source with CO emissions greater than or equal to 100 tons per year.

Emissions Inventory, Main Source Category Subtotals
Main source category | CO emissions pounds per winter day
Point Sources | 1,418
Onroad Mobile Sources | 213,760
Non-road Mobile Sources | 37,221
Area Sources | 54,303
Total | 306,702

C. What are the control measures for this area?

The first 10-year maintenance plan approved by the EPA for the Spokane area relied on the Federal Motor Vehicle Emission Control Program establishing emission standards for new motor vehicles (40 CFR part 86), a motor vehicle inspection and maintenance (I/M) program, and an administrative order and amendment for the Kaiser Aluminum and Chemical Corporation Mead Works facility. The EPA's 2005 approval of the first 10-year maintenance plan anticipated that more stringent Federal automobile standards and the removal of older, less efficient cars over time would result in an overall decline in CO emissions despite expected increases in vehicle miles traveled in the area (70 FR 37269, June 29, 2005, at page 37271). Consistent with the EPA's CO LMP Option memo, Washington concluded that continued applicability of the Prevention of Significant Deterioration requirements, any control measures already in the SIP, and Federal measures (such as the Federal motor vehicle control program) will provide adequate assurance of maintenance for the Spokane area. Based on our review of the 2011 attainment emissions inventory, showing dramatic emissions reductions as a result of the Federal motor vehicle control program, it is highly unlikely CO emissions in the Spokane area will violate the NAAQS. We also note that Washington's most recent updates to the Prevention of Significant Deterioration permitting program were approved by the EPA on April 29, 2015 (80 FR 23721).

Lastly, Washington is requesting no changes to the control measures contained in the SIP, except for one minor revision. As discussed in Washington's submittal, the first 10-year maintenance plan included administrative order number DE 01 AQIS-3285, and amendment #1 of that order, for the former Kaiser Aluminum and Chemical Corporation's aluminum reduction plant located in Mead, Washington, north of the City of Spokane. During the EPA's action on the first 10-year plan it was not known at that time whether the then closed facility or some portion of it would reopen, so the EPA retained the existing administrative order and amendment in the SIP to ensure that the facility could not contribute to an exceedance of the CO NAAQS if it reopened at some point in the future. On April 11, 2013, NMC Mead, LLC, the new owners of the facility, notified the Spokane Regional Clean Air Agency (SRCAA) that the facility, “. . . has permanently shut down and is in the process of dismantling all equipment permitted under Air Operating Permit No. AOP-19-Renewal Permit #1. NMC Mead will not be renewing this Air Operating Permit, and is requesting that this permit be revoked effective March 31, 2013.” On April 26, 2013, SRCAA voided the Air Operating Permit and all associated orders stating that, “[i]f NMC Mead, LLC ever wants to operate any of the emission units at the facility again in the future, a new Notice of Construction (NOC) permit must be approved by the SRCAA prior to the installation and/or operation of the equipment.” See Appendix D of Washington's submission. Because any potential, future NOC permit will be subject to the New Source Review (NSR) permitting program to ensure compliance with all NAAQS, Washington requested that the EPA remove the voided administrative order No. DE 01 AQIS-3285 and amendment #1 from the SIP codified in 40 CFR 52.2470(d) EPA-Approved State Source-Specific Requirements. The EPA is proposing to grant this request because the EPA has confirmed the facility is shutdown and dismantled.

C. Does the limited maintenance plan include an assurance of continued operation of an appropriate EPA-approved air quality monitoring network, in accordance with 40 CFR part 58?

The EPA's CO LMP Option memo states, “[t]o verify the attainment status of the area over the maintenance period, the maintenance plan should contain provisions for continued operation of an appropriate, EPA approved air quality monitoring network, in accordance with 40 CFR part 58.” Washington's most recent EPA-approved annual air quality monitoring network plan is included in the docket for this action. Under this plan, Washington currently operates a Federal Equivalent Method (FEM) CO monitor at 3rd and Washington in downtown Spokane. Due to the low and continually declining levels of CO monitored at this site over the past two decades since the last exceedance of the NAAQS, Washington requested the EPA's approval of an alternative monitoring strategy for verifying maintenance of the CO NAAQS similar to other altenative approaches used in CO areas in the nation (see 80 FR 17331, April 1, 2015, Great Falls, Montana; 80 FR 16571, March 30, 2015, Billings, Montana; and 73 FR 36439, June 27, 2008, Vancouver, Washington, for a few recent examples).

Washington's proposed alternative monitoring strategy generally mirrors the approach recently approved for the Grants Pass CO area on July 28, 2015 (80 FR 44864). Washington proposes that total CO emissions will be calculated, as detailed below, every three years in conjunction with the Statewide Emissions Inventory development process, which populates the EPA NEI. Under the proposed alternative monitoring strategy, SRCAA, in cooperation with Ecology, commits to reviewing future year 2017, 2020 and 2023 CO estimates for the three primary source categories (onroad mobile, nonroad mobile, and residential wood combustion (area sources)) which comprise 97% of CO emissions in the Spokane area. The aggregate total of these three source categories would then be compared to the corresponding 2002 level, which represents the emissions at the time EPA redesignated the area to attainment and approved the first 10-year maintenance plan. The 2002 emission level corresponds to a design value of 5.2 ppm, well below the CO NAAQS of 9.0 ppm and the LMP qualification threshold of 7.65 ppm, giving adequate buffer to reestablish monitoring before any potential violation of the NAAQS and resulting contingency measures.

Because the calculated amounts of both the onroad and nonroad mobile CO emissions can change depending on the version of the EPA model required for use at that time (currently MOVES2014), SRCAA and Ecology commit to recalculating 2002 emission estimates for these two source categories using national default settings at the county-wide level with the most current EPA-mandated model, in order to ensure consistency in comparing future year inventories to 2002 levels. For the remaining source category, residential wood combustion, SRCAA and Ecology will compare future year inventories, calculated using the most up to date activity level, emission factor, and population data available, in accordance with the EPA's NEI guidance, to the annual 2002 county-wide inventories approved in the first 10-year maintenance plan (19,937 tons per year). If a future year aggregate total of the three source categories calculated for 2017, 2020, or 2023 exceeds the corresponding aggregate total of 2002 emissions, Ecology must reestablish monitoring in the area. In order to verify continued attainment in the area, continued qualification for the CO LMP Option, and provisions for triggering contingency measures should the area violate the CO NAAQS in the future, this review will be submitted annually by Ecology to the EPA as part of the monitoring network report for compliance under 40 CFR part 58.¹ Washington's annual network monitoring reports are available to the public at https://fortress.wa.gov/ecy/publications/UIPages/Home.aspx.

¹ The EPA notes that emission inventory development for the NEI is done on a triennial basis, so reporting during off years between the 2017, 2020, and 2023 inventory cycles will likely refer back to the most recent inventory data available.

The State's request was made under 40 CFR 58.14(c) which allows approval of requests to discontinue ambient monitors “on a case-by-case basis if discontinuance does not compromise data collection needed for implementation of a NAAQS and if the requirements of appendix D to 40 CFR part 58, if any, continue to be met.” The EPA proposes to find that the alternative monitoring strategy meets the criteria of 40 CFR 58.14(c) for the Spokane area. Given the long history of low CO concentrations in the Spokane area, and the commitment to reestablish monitoring should NEI data show the potential for increasing CO emissions, the EPA is proposing to approve the State's request to discontinue the Spokane CO monitor and use the alternative monitoring strategy in its place.

D. Does the plan meet the Clean Air Act requirements for contingency provisions?

CAA section 175A states that a maintenance plan must include contingency provisions, as necessary, to ensure prompt correction of any violation of the relevant NAAQS which may occur after redesignation of the area to attainment. Washington's submittal makes no changes to the contingency provisions approved as part of the first 10-year maintenance plan (70 FR 37269, June 29, 2005, at page 37271). The EPA is proposing to determine that the existing contingency measure provisions from the first 10-year maintenance plan continue to satisfy the requirement under CAA section 175A.

V. Proposed Action

The EPA is proposing to approve the LMP submitted by the State of Washington, on May 11, 2016, for the Spokane CO area. We are proposing to approve the request to remove the associated order and amendment for the former Kaiser Aluminum and Chemical Corporation's aluminum reduction plant located in Mead, Washington from incorporation by reference in the Washington SIP because the facility has been shut down, dismantled, and the operating permit has been revoked. We are also proposing to approve the State's alternative CO monitoring strategy for the Spokane area. If finalized, the EPA's approval of this LMP will satisfy the CAA section 175A requirements for the second 10-year period in the Spokane CO area.

VI. Incorporation by Reference

In accordance with the requirements of 1 CFR 51.5, the EPA is proposing to revise the incorporation by reference contained in 40 CFR 52.2470(d) EPA-Approved State Source-Specific Requirements to remove the associated order and amendment for the former Kaiser Aluminum and Chemical Corporation's aluminum reduction plant located in Mead, Washington, as described above in Section V. Proposed Action. The EPA has made, and will continue to make, these documents generally available electronically through www.regulations.gov and/or in hard copy at the appropriate EPA office (see the FOR FURTHER INFORMATION CONTACT section of this preamble for more information).

VII. Statutory and Executive Order Reviews

Under the CAA, the Administrator is required to approve a SIP submittal that complies with the provisions of the CAA and applicable Federal regulations. 42 U.S.C. 7410(k); 40 CFR 52.02(a). Thus, in reviewing SIP submittals, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

This SIP revision is not approved to apply on any Indian reservation land in Washington or any other area where the EPA or an Indian tribe has demonstrated that a tribe has jurisdiction. In those areas, the rule does not have tribal implications and will not impose substantial direct costs on tribal governments or preempt tribal law as specified by Executive Order 13175 (65 FR 67249, November 9, 2000). However, consistent with EPA policy, the EPA provided a consultation opportunity to the Spokane Tribe in a letter dated September 11, 2015. The EPA did not receive a request for consultation.

List of Subjects in 40 CFR Part 52

Environmental protection, Air pollution control, Carbon monoxide, Incorporation by reference, and Reporting and recordkeeping requirements.

Authority: 42 U.S.C. 7401 et seq.

Dated: May 13, 2016.
Dennis J. McLerran,
Regional Administrator, Region 10.

[FR Doc. 2016-12529 Filed 5-26-16; 8:45 am]

BILLING CODE 6560-50-P